GENERAL SERVICES ADMINISTRATION

41 CFR Parts 301-10 and 301-70

[Notice-MA-2025-14; Docket No. 2025-0002; Sequence No. 12]

Federal Travel Regulation (FTR); Rescinding FTR Bulletins

AGENCY: Office of Government-wide Policy (OGP), General Services Administration (GSA).

ACTION: Notification to rescind FTR Bulletins.

SUMMARY: The U.S. General Services Administration (GSA) is rescinding 36 bulletins due to being outdated, expired, or no longer in effect due to recent executive action.

DATES: Applicability date: May 22, 2025.

FOR FURTHER INFORMATION CONTACT: Mr. Alexander Kurien, Office of Government-wide Policy, Office of Asset and Transportation Management, at 202-495-9628 or by email at travelpolicy@gsa.gov. Please cite notification to rescind FTR bulletins.

SUPPLEMENTARY INFORMATION:

Background

Due to issuance of the Executive Order (E.O.) 14148, Initial Recissions of Harmful Executive Orders and Actions, dated January 20, 2025, GSA is rescinding 36 Federal Travel Regulation (FTR) Bulletins.

The following bulletins are rescinded because the content is outdated and/or authorities authorizing the bulletin(s) have been rescinded:

1. FTR Travel/Per Diem Bulletin 05-08: New requirements for the issuance and management of the Governmentwide travel charge card—Office of Management and Budget (OMB) Circular A-123 (revised) (70 FR 73747, Dec. 13, 2005)

2. FTR Bulletin 10-06: Guidance for Sustainable Temporary Duty (TDY) Travel Policies and Practices (75 FR 63184, Oct. 14, 2010)

3. FTR Bulletin 13-03: Promoting Efficient Travel Spending

4. FTR Bulletin 13-07: Reduce Travel Costs

5. FTR Bulletin 14-02: Clarification of Agency Reporting Requirements for Conferences

6. FTR 15-03: Relocation Income Tax (RIT) Allowance Tax Tables (80 FR 18405, April 6, 2015)

7. FTR 15-04: Requirements to Report Agency Payments for Relocation (80 FR 26258, May 7, 2015)

8. FTR Bulletin 16-03: Relocation Income Tax (RIT) Allowance Tax Tables (81 FR 23702, April 22, 2016)

9. FTR Bulletin 16-04: Agency Relocation Data Reporting Requirements (81 FR 35359, June 2, 2016)

10. FTR Bulletin 16-05—Reimbursement for Use of Transportation Network Companies While on Official Travel (81 FR 50705, Aug. 2, 2016)

11. FTR Bulletin 17-03: Relocation Income Tax (RIT) Allowance Tax Tables (82 FR 21390, May 8, 2017)

12. FTR Bulletin 18-01: Fiscal Year 2018 Continental United States (CONUS) Per Diem Rates (82 FR 39786, Aug. 22, 2017)

13. FTR Bulletin 18-03: Calendar Year (CY) 2018 Privately Owned Vehicle (POV) Mileage Reimbursement Rates and Standard Mileage Rate (83 FR 380, Jan. 3, 2018)

14. FTR Bulletin 18-06: Relocation Allowances—Relocation Income Tax (RIT) Allowance Tables (83 FR 24474, May 29, 2018)

15. FTR 19-01: GSA Per Diem Bulletin (83 FR 42501, Aug. 22, 2018)

16. FTR Bulletin 19-03: Calendar Year (CY) 2019 Privately Owned Vehicle (POV) Mileage Reimbursement Rates and Standard Mileage Rate for Moving Purposes (Relocation Allowances) (83 FR 66263, Dec. 26, 2018)

17. FTR Bulletin 20-01: Fiscal Year 2020 Continental United States (CONUS) Per Diem Reimbursement Rates (84 FR 40413, Aug. 14, 2019)

18. FTR Bulletin 20-03: Calendar Year (CY) 2020 Privately Owned Vehicle (POV) Mileage (85 FR 2135, Jan. 14, 2020)

19. FTR Bulletin 20-04 Relocation Allowances—Withholding Tax Allowance (WTA) and Relocation Income Tax Allowance (RITA) Eligibility (85 FR 11369, Feb. 27, 2020)

20. FTR Bulletin 21-01: Fiscal Year 2021 Continental United States (CONUS) Per Diem Reimbursement Rates (85 FR 50025, Aug. 17, 2020)

21. FTR Bulletin 21-03: Calendar Year (CY) 2021 Privately Owned Vehicle (POV) Mileage Reimbursement Rates and Standard Mileage Rate for Moving Purposes (Relocation Allowances) (86 FR 1501, Jan. 8, 2021)

22. FTR Bulletin 22-01: Fiscal Year 2022 Continental United States (CONUS) Per Diem Reimbursement Rates (86 FR 45731, Aug. 16, 2021)

23. FTR Bulletin 22-04: Waiver of Certain FTR Provisions During COVID-19 Pandemic (86 FR 73279, Dec. 27, 2021)

24. FTR Bulletin 22-05: Calendar Year (CY) 2022 Privately Owned Vehicle (POV) Mileage Reimbursement Rates and Standard Mileage Rate (87 FR 87, Jan. 3, 2022)

25. FTR Bulletin 22-06: Midyear Adjustment to the Calendar Year (CY) 2022 Mileage Reimbursement Rates (87 FR 39835, July 5, 2022)

26. FTR Bulletin 23-01: Fiscal Year 2023 Continental United States (CONUS) Per Diem Reimbursement Rates (87 FR 50861, Aug. 18, 2022)

27. FTR Bulletin 23-05: Calendar Year (CY) 2023 Privately Owned Vehicle (POV) Mileage Reimbursement Rates and Standard Mileage Rate for Moving Purposes (Relocation Allowances) (86 FR 864, Jan. 5, 2023)

28. FTR Bulletin 23-06: Travel Reporting Information Profile (TRIP) Reporting Requirements (88 FR 34857, May 31, 2023)

29. FTR Bulletin 24-01: Fiscal Year 2024 Continental United States (CONUS) Per Diem Reimbursement Rates (88 FR 56629, Aug. 18, 2023)

30. FTR Bulletin 24-02: Sustainable Transportation for Official Temporary Duty (TDY) Travel (88 FR 87363, Dec. 18, 2023)

31. FTR Bulletin 24-03: Calendar Year (CY) 2024 Privately Owned Vehicle (POV) Mileage Reimbursement Rates and Standard Mileage Rate for Moving Purposes (Relocation Allowances) (88 FR 89452, Dec. 27, 2023)

The following bulletins are expired and are therefore rescinded:

1. FTR Bulletin 18-07: Relocation Allowances, Waiver of certain provisions of the FTR Chapter 302 for official relocation travel of employees to locations in the United States (U.S.) Virgin Islands and Commonwealth of Puerto Rico impacted by Hurricanes Irma and Maria (83 FR 34133, July 19, 2018)

2. FTR Bulletin 22-02: Hurricane Ida—FTR Waiver for Relocation TQSE & HHT Per Diem Rates (86 FR 51357, Sept. 15, 2021)

3. FTR Bulletin 22-07: Relocation Allowances—Extended waiver of certain Federal Travel Regulation (FTR) provisions during the coronavirus disease 2019 (COVID-19) pandemic (87 FR 41126, July 11, 2022)

4. FTR Bulletin 23-03: Relocation Allowances—Waiver of Certain Provisions of the FTR Chapter 302 for Official Relocation Travel to Locations in Florida, South Carolina, North Carolina, and the Commonwealth of Puerto Rico impacted by Hurricanes Ian and Fiona (87 FR 62312, Oct. 14, 2022)

5. FTR Bulletin 23-08: Waiver of certain FTR provisions for official relocation travel to locations impacted by Hurricane Idalia (88 FR 63532, Sept. 15, 2023)

All currently active FTR bulletins can be viewed at https://www.gsa.gov/ftrbulletins.

Larry Allen,
Associate Administrator, Office of Government-wide Policy.

[FR Doc. 2025-08954 Filed 5-21-25; 8:45 am]

BILLING CODE 6820-14-P